NUCLEAR REGULATORY COMMISSION

10 CFR Part 72

[NRC-2022-0109]

RIN 3150-AK-86

List of Approved Spent Fuel Storage Casks: Holtec International HI-STORM 100 Cask System, Certificate of Compliance No. 1014, Renewal of Initial Certificate and Amendment Nos. 1 Through 15

AGENCY: Nuclear Regulatory Commission.

ACTION: Proposed rule; reopening of comment period.

SUMMARY: On February 13, 2023, the U.S. Nuclear Regulatory Commission (NRC) provided an opportunity for public comment on a proposed rule to revise the Holtec International HI-STORM 100 listing within the “List of approved spent fuel storage casks” to renew the initial certificate (Amendment No. 0) and Amendment Nos. 1 through 15 to Certificate of Compliance No. 1014. The NRC published the companion proposed rule concurrently with a direct final rule. The renewal of the initial certificate and Amendment Nos. 1 through 15 would revise the certificate of compliance's conditions and technical specifications to address aging management activities related to the structures, systems, and components important to safety of the dry storage system to ensure that these will maintain their intended functions during the period of extended storage operations. The public comment period closed on March 15, 2023. The NRC is reopening the public comment period to allow additional time for members of the public to develop and submit comments.

DATES: The comment period for the document published on February 13, 2023 (88 FR 9195) has been reopened. Comments should be filed no later than April 14, 2023. Comments received after this date will be considered, if it is practical to do so, but the Commission is only able to ensure consideration of comments received on or before this date.

ADDRESSES: Please include Docket ID NRC-2022-0109 in your comment submission. The NRC requests that you submit comments through the Federal rulemaking website at https://www.regulations.gov. If your material cannot be submitted using https://www.regulations.gov, call or email the individuals listed in the FOR FURTHER INFORMATION CONTACT section of this document for alternate instructions.

For additional direction on obtaining information and submitting comments, see “Obtaining Information and Submitting Comments” in the SUPPLEMENTARY INFORMATION section of this document.

FOR FURTHER INFORMATION CONTACT: Kristina Banovac, telephone: 301-415-7116, email: Kristina.Banovac@nrc.gov and James Firth, telephone: 301-415-6628, email: James.Firth@nrc.gov. Both are staff of the U.S. Nuclear Regulatory Commission, Washington, DC 20555-0001.

SUPPLEMENTARY INFORMATION:

I. Obtaining Information and Submitting Comments

A. Obtaining Information

Please refer to Docket ID NRC-2022-0109 when contacting the NRC about the availability of information for this action. You may obtain publicly available information related to this action by any of the following methods:

• Federal Rulemaking Website: Go to https://www.regulations.gov and search for Docket ID NRC-2022-0109.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

The NRC encourages electronic comment submission through the Federal Rulemaking Website (https://www.regulations.gov). Please include Docket ID NRC-2022-0109 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On February 13, 2023, the NRC provided opportunity for public comment on a proposed rule to revise the Holtec International HI-STORM 100 listing within the “List of approved spent fuel storage casks” to renew the initial certificate (Amendment No. 0) and Amendment Nos. 1 through 15 to Certificate of Compliance No. 1014 (88 FR 9195). The NRC published the companion proposed rule concurrently with a direct final rule (88 FR 9106; February 13, 2023). The renewal of the initial certificate and Amendment Nos. 1 through 15 would revise the certificate of compliance's conditions and technical specifications to address aging management activities related to the structures, systems, and components important to safety of the dry storage system to ensure that these will maintain their intended functions during the period of extended storage operations.

The proposed revisions relate to the renewal of the certificates of compliance to allow for continued storage of spent fuel under title 10 of the Code of Federal Regulations part 72. These revisions are specifically discussed in Chapter 4 of the Preliminary Safety Evaluation Report (ADAMS Accession No. ML22098A303). The Proposed Certificates of Compliance and Proposed Technical Specifications documents referenced in the proposed rule contain the revised conditions and specifications discussed in the Preliminary Safety Evaluation Report. The proposed aging management programs and the proposed changes to the final safety analysis report are located in the Certificate of Compliance Renewal Application (ADAMS Accession No. ML21113A203), in Appendix A and Appendix D, respectively. Section IV (“Discussion of Changes”) in the direct final rule also describes the changes in the proposed renewal of Certificate of Compliance No. 1014. The proposed renewal only applies to the storage of spent fuel in an independent spent fuel storage installation at power reactor sites under a general license pursuant to the requirements of 10 CFR part 72; it does not address or apply to transportation of the HI-STORM 100 Cask System. Transport of the HI-STORM 100 Cask System would be subject to the separate requirements of 10 CFR part 71.

The public comment period closed on March 15, 2023. The NRC received two requests to extend the comment period for the proposed rule and the concurrent direct final rule. The NRC is reopening the public comment period to allow additional time for members of the public to develop and submit comments. The comment period is reopened and now closes on April 14, 2023, which is 60 days after the initial opening of the public comment period.

The NRC may post materials related to this document, including public comments, on the Federal rulemaking website at https://www.regulations.gov under Docket ID NRC-2022-0109. In addition, the Federal rulemaking website allows members of the public to receive alerts when changes or additions occur in a docket folder. To subscribe: (1) navigate to the docket folder (NRC-2022-0109); (2) click the “Subscribe” link; and (3) enter an email address and click on the “Subscribe” link.

Dated: March 16, 2023.
For the Nuclear Regulatory Commission.
Cindy K. Bladey,
Chief, Regulatory Analysis and Rulemaking Support Branch, Division of Rulemaking, Environmental, and Financial Support Office of Nuclear Material Safety and Safeguards.

[FR Doc. 2023-05831 Filed 3-21-23; 8:45 am]

BILLING CODE 7590-01-P